NUCLEAR REGULATORY COMMISSION

Sunshine Act Meeting; Notice

Agency Holding the Meetings: Nuclear Regulatory Commission.

Date: Weeks of July 3, 10, 17, 24, 31, August 7, 2006.

Place: Commissioners' Conference Room, 11555 Rockville Pike, Rockville, Maryland.

Status: Public and closed.

Matters To Be Considered:

Week of July 3, 2006

There are no meetings scheduled for the Week of July 3, 2006.

Week of July 10, 2006—Tentative

There are no meetings scheduled for the Week of July 10, 2006.

Week of July 17, 2006—Tentative

There are no meetings scheduled for the Week of July 17, 2006.

Week of July 24, 2006—Tentative

Thursday, July 27, 2006

9:30 a.m. Briefing on Office of International Programs (OIP) Programs, Performance, and Plans (Public Meeting). (Contact: Karen Henderson, 301-415-0202.)

This meeting will be Webcast live at the Web address http://www.nrc.gov.

1:30 p.m. Briefing on Equal Employment Opportunity (EEO) Programs (Public Meeting). (Contact: Barbara Williams, 301-415-7388.)

This meeting will be Webcast live at the Web address http://www.nrc.gov.

Week of July 31, 2006—Tentative

There are no meetings scheduled for the Week of July 31, 2006.

Week of August 7, 2006—Tentative

Wednesday, August 9, 2006

9:30 a.m. Discussion of Security Issues (closed—ex. 1) Tentative.

Thursday, August 10, 2006

9:30 a.m. Discussion of Security Issues (closed—ex. 1 & 3) Tentative.

* * * * *

*The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers, if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 29, 2006.
R. Michelle Schroll,
Office of the Secretary.

[FR Doc. 06-5998 Filed 6-30-06; 10:25 am]

BILLING CODE 7590-01-M